DEPARTMENT OF THE INTERIOR

National Park Service

[NPS-WASO-NRNHL-DTS#-37030; PPWOCRADI0, PCU00RP14.R50000]

National Register of Historic Places; Notification of Pending Nominations and Related Actions

AGENCY: National Park Service, Interior.

ACTION: Notice.

SUMMARY: The National Park Service is soliciting electronic comments on the significance of properties nominated before November 18, 2023, for listing or related actions in the National Register of Historic Places.

DATES: Comments should be submitted electronically by December 26, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 18, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

San Mateo County

Yamanouchi, Yoshiko, House, (Asian Americans and Pacific Islanders in California, 1850-1970 MPS), 1007 East 5th Avenue, San Mateo, MP100009653

DELAWARE

Kent County

Vincelette Futuro House, 4388 Deep Grass Lane, Houston, SG100009680

DISTRICT OF COLUMBIA

District of Columbia

Northeast Savings Bank, (Banks and Financial Institutions MPS), 800 H Street NE, Washington, MP100009657

FLORIDA

Miami-Dade County

Ebenezer Methodist Church, (Historic and Architectural Properties of Overtown in Miami, Florida (1896-1964) MPS), 1074 NW 3rd Avenue, Miami, MP100009673

INDIANA

Porter County

Chicago Mica Co.—Continental Diamond Fibre Co.—ANCO Factory, 350 South Campbell Street, Valparaiso, SG100009652

IOWA

Black Hawk County

Friedl Bakery Building, (Waterloo MPS), 302 Commercial Street, Waterloo, MP100009670

Dallas County

St. Boniface Catholic Church, 250 4th Street, Waukee, SG100009671

MAINE

Sagadahoc County

Snipe Farm, 157 Arrowsic Road, Arrowsic, SG100009659

Waldo County

Webster, Paul and Lucena, Summer House, 142 Lighthouse Road, Stockton Springs, SG100009660

MASSACHUSETTS

Suffolk County

Parker House, 56-62 School St. and 60-68 Tremont St., Boston, 86003804

NEW HAMPSHIRE

Grafton County

Littleton Community House & Annex, 120 Main Street, Littleton, SG100009661

NEW MEXICO

Santa Fe County

Immaculate Heart of Mary Seminary, 49 & 50 Mt. Carmel Road, Santa Fe, SG100009668

Socorro County

Biavaschi Saloon-Capitol Bar, 110 Plaza Street, Socorro, SG100009669

NEW YORK

Erie County

BUFFALO PUBLIC SCHOOL #75 (PS 75), 57 Howard Street, Buffalo, SG100009683

OKLAHOMA

Craig County

Adams, John and Hazel, House, (Bruce Goff Designed Resources in Oklahoma MPS), 108 Fairmont Road, Vinita, MP100009662

Delaware County

Delaware School, District No. 64, approx. 6 miles north of Jay on US 59/OK 10, Jay, SG100009663

Kay County

Robertson, Dr. William A.T. and Lillian, House, 202 North 6th Street, Ponca City, SG100009664

WASHINGTON

Snohomish County

Weyerhaeuser Timber Company Office Building, 615 Millwright Loop N, Everett, SG100009679

WISCONSIN

Brown County

Kohl, Edward F. and Jean, House, 815 Nicolet Avenue, De Pere, SG100009654

Calumet County

Stanelle, Gottlieb and Beata, Farmhouse, W2020 Schmidt Road, Brillion, SG100009675

A request for removal has been made for the following resource(s):

CALIFORNIA

Santa Cruz County

Lower Sky Meadow Residential Area Historic District, (Big Basin Redwoods State Park MPS), 7, 8, 9, 10, 14, 15 & 16 Sky Meadow Ln., Boulder Creek, OT14000662

Headquarters Administration Building, (National-State Cooperative Program and the CCC in California State Parks MPS), 21600 Big Basin Way, Boulder Creek, OT15000914

MASSACHUSETTS

Bristol County

Shawmut Diner, (Diners of Massachusetts MPS), 943 Shawmut Ave., New Bedford, OT03001208

Worcester County

Stearns Tavern, (Worcester MRA), 651 Park Ave., Worcester, OT80000479

An additional documentation has been received for the following resource(s):

ARIZONA

Maricopa County

Oakland Historic District (Additional Documentation), Roughly bounded by 19th Ave. Fillmore St., Grand Ave., and Van Buren St., Phoenix, AD01000164

Elizabeth Seargeant-Emery Oldaker House (Additional Documentation), (Roosevelt Neighborhood MRA), 649 N. 3rd Ave., Phoenix, AD83003472

Yavapai County

South Prescott Townsite (Additional Documentation), (Prescott Territorial Buildings MRA), 225 South Cortez Street, Prescott, AD97000859

WASHINGTON

King County

Neely, Sr., Aaron and Sarah, Farm (Additional Documentation), E of Auburn off WA 18, Auburn vicinity, AD74001955

Authority: Section 60.13 of 36 CFR part 60

Sherry Frear,
Chief, National Register of Historic Places/National Historic Landmarks Program.

[FR Doc. 2023-27059 Filed 12-8-23; 8:45 am]

BILLING CODE 4312-52-P